Title 3—

The President

Presidential Determination No. 2013-8 of April 11, 2013

Drawdown Pursuant to Section 552(c)(2) of the Foreign Assistance Act of 1961 of up to $10 Million in Commodities and Services From Any Agency of the United States Government to the Syrian Opposition Coalition (SOC) and the Syrian Opposition's Supreme Military Council (SMC)

Memorandum for the Secretary of State [and] the Secretary of Defense

Pursuant to the authority vested in me as President by the Constitution and the laws of the United States, including section 552(c)(2) of the Foreign Assistance Act of 1961, as amended (FAA), 22 U.S.C. 2348a, I hereby determine that:

(1) as a result of an unforeseen emergency, the provision of assistance under chapter 6 of part II of the FAA in amounts in excess of funds otherwise available for such assistance is important to the national interests of the United States; and

(2) such an unforeseen emergency requires the immediate provision of assistance under chapter 6 of part II of the FAA.

In addition, pursuant to the authority vested in me as President by the Constitution and the laws of the United States, including section 614 of the FAA, I hereby determine that it is important to the security interests of the United States to furnish this assistance to the SOC and the SMC without regard to any other provision of law within the purview of section 614(a)(1) of the FAA.

I therefore direct the drawdown of up to $10 million in nonlethal commodities and services from the inventory and resources of any agency of the United States Government to provide food and medical supplies to the SOC and the SMC for distribution to those in need.

The Secretary of State is authorized and directed to report this determination to the Congress, to arrange for its publication in the Federal Register, and to coordinate execution of this drawdown.

THE WHITE HOUSE,

Washington, April 23, 2013

[FR Doc. 2013-09860

Filed 4-23-13; 11:15 am]

Billing code 4710-10